Title 3—

The President

Proclamation 8891 of October 19, 2012

National Character Counts Week, 2012

By the President of the United States of America

A Proclamation

With every step in our journey toward a more perfect Union, Americans have drawn strength from the values that bind us together as one people. Personal integrity, mutual respect, commitment to service—these timeless ideals have guided our Nation's progress for centuries, inspiring us not only to see the best in each other, but also to seek the best in ourselves. During National Character Counts Week, we celebrate the principles that keep our country moving forward and renew our commitment to sharing them with our sons and daughters.

As parents, teachers, mentors, and neighbors, it is up to all of us to empower our children with a sense of excellence in everything they do—from the classroom through careers and community involvement. We must instill in them the creativity and imagination it takes to envision a dream, and the drive and discipline it takes to realize one. We should also underscore the values of responsibility and service that have sustained our national life for generations. With these qualities, all of us can seek out new horizons and opportunities with confidence, secure in the knowledge that we can overcome the challenges and setbacks that confront us.

To ensure that each and every American has the chance to fulfill their promise, we must also teach our children to practice kindness and respect. Many students across our country have experienced bullying and harassment at school, online, or in their communities, eroding their ability to thrive and feel that they belong. This week, let us reaffirm our responsibility to make our schools and communities safe places that nurture not only our students' talents and intelligence, but also their sense of empathy and regard for one another.

During National Character Counts Week, we reflect on the principles that give us strength to reach for our own dreams and vision to boost others toward theirs. As we mark this important occasion, let us rededicate ourselves to preserving and passing on those basic American values in the years to come.

NOW, THEREFORE, I, BARACK OBAMA, President of the United States of America, by virtue of the authority vested in me by the Constitution and the laws of the United States, do hereby proclaim October 21 through October 27, 2012, as National Character Counts Week. I call upon public officials, educators, parents, students, and all Americans to observe this week with appropriate ceremonies, activities, and programs.

IN WITNESS WHEREOF, I have hereunto set my hand this nineteenth day of October, in the year of our Lord two thousand twelve, and of the Independence of the United States of America the two hundred and thirty-seventh.

[FR Doc. 2012-26342

Filed 10-23-12; 11:15 am]

Billing code 3295-F3